DEPARTMENT OF TRANSPORTATION

Federal Transit Administration

Notice To Solicit Transit Advisory Committee for Safety Member Applications

AGENCY: Federal Transit Administration, Department of Transportation.

ACTION: Notice to Solicit Transit Advisory Committee for Safety Member Applications.

SUMMARY: The Federal Transit Administration (FTA) is seeking applications for individuals to serve as members, for two-year terms, on the Transit Advisory Committee for Safety (TRACS). The TRACS provides information, advice, and recommendations to the U.S. Secretary of Transportation (Secretary) and FTA Administrator (Administrator) in response to tasks assigned to TRACS. The TRACS does not exercise program management responsibilities and makes no decisions directly affecting the programs on which it provides advice. The Secretary may accept or reject a recommendation made by TRACS and is not bound to pursue any recommendation from TRACS.

DATES: Interested persons must submit their applications to FTA by March 9, 2022.

FOR FURTHER INFORMATION CONTACT: Joseph DeLorenzo, TRACS Designated Federal Officer, Associate Administrator, FTA Office of Transit Safety and Oversight, (202) 366-1783, Joseph.DeLorenzo@dot.gov; or Bridget Zamperini, TRACS Program Manager, FTA Office of Transit Safety and Oversight, TRACS@dot.gov. Please address all mail to the Office of Transit Safety and Oversight, Federal Transit Administration, 1200 New Jersey Avenue SE, Washington, DC 20590-0001.

SUPPLEMENTAL INFORMATION:

Nominations

FTA invites qualified individuals interested in serving on TRACS to apply to FTA for appointment. The Administrator will recommend nominees for appointment by the Secretary. Appointments are for two-year terms; however, a member may reapply to serve additional terms, in the event that the TRACS Charter is renewed. Applicants should be knowledgeable of trends and issues related to rail transit and/or bus transit safety. Along with their experience in the rail transit and/or bus transit industry, applicants will also be evaluated and selected based on factors including leadership and organizational skills, region of the country represented, diversity characteristics, and the overall balance of industry representation.

Each application should include the applicant's name and organizational affiliation; a cover letter describing the applicant's qualifications and interest in serving on TRACS; a curriculum vitae or resume of the applicant's qualifications; and contact information including the applicant's address, phone number, fax number, and email address. Self-application and application through nomination of others are acceptable. FTA prefers electronic submissions for all applications, via email to TRACS@dot.gov. Applications will also be accepted via mail at the address identified in the FOR FURTHER INFORMATION CONTACT section of this notice.

FTA expects to nominate up to 25 representatives from the public transportation safety community for immediate TRACS membership. The Secretary, in consultation with the Administrator, will make the final selection decision.

This notice is provided in accordance with the Federal Advisory Committee Act (Pub. L. 92-463, 5 U.S.C. app. 2). Please see the TRACS website for additional information at https://www.transit.dot.gov/regulations-and-guidance/safety/transit-advisory-committee-safety-tracs.

Nuria I. Fernandez,
Administrator.

[FR Doc. 2022-02494 Filed 2-4-22; 8:45 am]

BILLING CODE P